FEDERAL COMMUNICATIONS COMMISSION

Open Commission Meeting, Friday, November 22, 2019

November 15, 2019.

The Federal Communications Commission will hold an Open Meeting on the subjects listed below on Friday, November 22, 2019, which is scheduled to commence at 10:30 a.m. in Room TW-C305, at 445 12th Street SW, Washington, DC.

Item number | Bureau | Subject
1 | Wireline Competition | Title: Protecting Against National Security Threats to the Communications Supply Chain Through FCC Programs (WC Docket No. 18-89).
|  | Summary: The Commission will consider a Report and Order, Further Notice of Proposed Rulemaking, and Order that would ensure that Universal Service Fund support is not used to purchase equipment or services from companies posing a national security threat to the integrity of communications networks or the communications supply chain, propose additional actions to address national security threats to USF-funded networks, and collect information to help assess the extent to which equipment from covered companies already exists in such networks.
2 | Public Safety & Homeland Security | Title: Wireless E911 Location Accuracy Requirements (PS Docket No. 07-114).
|  | Summary: The Commission will consider a Fifth Report and Order and Fifth Further Notice of Proposed Rulemaking that would adopt a vertical, or z-axis, location accuracy metric in connection with wireless E911 calls and propose additional measures to improve E911 location accuracy.
3 | General Counsel and Wireline Competition | Title: Modernizing Suspension and Debarment Rules (GN Docket No. 19-309).
|  | Summary: The Commission will consider a Notice of Proposed Rulemaking that would seek comment on updating its suspension and debarment rules to make them consistent with Office of Management and Budget guidelines, in order to better prevent bad actors from participating in Universal Service Fund programs, Telecommunications Relay Services programs, and the National Deaf-Blind Equipment Distribution Program.
4 | Wireline Competition | Title: Modernizing Unbundling and Resale Requirements in an Era of Next-Generation Networks and Services (WC Docket No. 19-308).
|  | Summary: The Commission will consider a Notice of Proposed Rulemaking that would seek comment on updating its unbundling and resale rules to reflect the marketplace realities of intermodal voice and broadband competition and to encourage both incumbent and competitive local exchange carriers to invest in next-generation networks.
5 | Media | Title: All-Digital AM Broadcasting (MB Docket No. 19-11); Revitalization of the AM Radio Service (MB Docket No. 13-249).
|  | Summary: The Commission will consider a Notice of Proposed Rulemaking that would seek comment on whether to authorize AM stations to transition to an all-digital signal on a voluntary basis.
6 | Media | Title: Amendment of Section 73.3556 of the Commission's Rules Regarding Duplication of Programming on Commonly Owned Radio Stations (MB Docket No. 19-310); Modernization of Media Initiative (MB Docket No. 17-105).
|  | Summary: The Commission will consider a Notice of Proposed Rulemaking that would seek comment on whether the duplicative programming rule applicable to commonly owned radio stations in the same market should be modified or eliminated given the current broadcasting marketplace.
7 | Consumer & Governmental Affairs, Enforcement, Managing Director andGeneral Counsel | Title: Misuse of Internet Protocol (IP) Captioned Telephone Service (CG Docket No. 13-24); Telecommunications Relay Services and Speech-to-Speech Services for Individuals with Hearing and Speech Disabilities (CG Docket No. 03-123).
|  | Summary: The Commission will consider a Report and Order that would expand the TRS fund contribution base for covering the costs of providing Internet Protocol Captioned Telephone Service (IP CTS) to include intrastate telecommunications revenue as a way of strengthening the funding base for this form of TRS without increasing the size of the Fund itself.

The meeting site is fully accessible to people using wheelchairs or other mobility aids. Sign language interpreters, open captioning, and assistive listening devices will be provided on site. Other reasonable accommodations for people with disabilities are available upon request. In your request, include a description of the accommodation you will need and a way we can contact you if we need more information. Last minute requests will be accepted but may be impossible to fill. Send an email to: fcc504@fcc.gov or call the Consumer & Governmental Affairs Bureau at 202-418-0530 (voice), 202-418-0432 (TTY).

Additional information concerning this meeting may be obtained from the Office of Media Relations, (202) 418-0500; TTY 1-888-835-5322. Audio/Video coverage of the meeting will be broadcast live with open captioning over the internet from the FCC Live web page at www.fcc.gov/live.

Marlene Dortch,
Secretary.

[FR Doc. 2019-25636 Filed 11-25-19; 8:45 am]

BILLING CODE 6712-01-P